DEPARTMENT OF COMMERCE

National Oceanic and Atmospheric Administration

[I.D. 092401B]

Pacific Fishery Management Council; Public Meeting

AGENCY: National Marine Fisheries Service (NMFS), National Oceanic and Atmospheric Administration (NOAA), Commerce.

ACTION: Notice of public meetings.

SUMMARY: The Pacific Fishery Management Council's (Council) Salmon Advisory Subpanel (SAS) will hold a work session by telephone conference, which is open to the public.

DATES: The telephone conference will be held Friday, October 26, 2001, from 9 a.m. to noon.

ADDRESSES: See SUPPLEMENTARY INFORMATION for the locations of the listening stations.

Council address: Pacific Fishery Management Council, 7700 NE Ambassador Place, Suite 200, Portland, OR 97220-1384.

FOR FURTHER INFORMATION CONTACT: Mr. Chuck Tracy, Salmon Management Staff Officer, Pacific Fishery Management Council: (503) 326-6352.

SUPPLEMENTARY INFORMATION: Three listening stations will be available at the following locations:

1. California Department of Fish and Game

1528-A Healdsburg Avenue

Healdsburg, CA 95448

Contact: Mr. Allen Grover; (707) 431-2860

2. Pacific Fishery Management Council

East Conference Room

7700 NE Ambassador Place, Suite 200

Portland, OR 97220-1384

Contact: Mr. Chuck Tracy; (503) 326-6352

3. NMFS Northwest Region

Director's Conference Room

7600 Sand Point Way NE, Building 1

Seattle, WA 98115

Contact: Mr. Chris Wright; (206) 526-4323

Note: The NMFS listening station in Seattle is on Federal property, and due to heightened security concerns, photo identification will be required to enter the building, and vehicle inspections may be necessary to park on the facility grounds.

The purpose of the work session is to review information in the Council briefing book related to salmon and pacific halibut management and to develop comments and recommendations for consideration at the October-November Council meeting.

Although non-emergency issues not contained in the meeting agenda may come before the SAS for discussion, those issues may not be the subject of formal SAS action during this meeting. SAS action will be restricted to those issues specifically listed in this notice and any issues arising after publication of this notice that require emergency action under section 305(c) of the Magnuson-Stevens Fishery Conservation and Management Act, provided the public has been notified of the SAS's intent to take final action to address the emergency.

Special Accommodations

This meeting is physically accessible to people with disabilities. Requests for sign language interpretation or other auxiliary aids should be directed to Ms. Carolyn Porter at (503) 326-6352 at least 5 days prior to the meeting date.

Dated: October 5, 2001.
Richard W Sutdi,
Acting Director, Office of Sustainable Fisheries, National Marine Fisheries Service.

[FR Doc. 01-25720 Filed 10-11-01; 8:45 am]

BILLING CODE 3510-22-S